ENVIRONMENTAL PROTECTION AGENCY

[FRL-8286-4]

Notice of Proposed Administrative Settlement Pursuant to the Comprehensive Environmental Response, Compensation, and Liability Act

AGENCY: Environmental Protection Agency (EPA).

ACTION: Notice; request for public comment.

SUMMARY: In accordance with the Comprehensive Environmental Response, Compensation, and Liability Act of 1980, as amended (“CERCLA”), 42 U.S.C. 9601 et seq., and the authority of the Attorney General of the United States to compromise and settle claims of the United States, notice is hereby given of a proposed administrative settlement resolving, subject to reservations and limitations, liability that owners of the St. Joe Chat Pile and of the underlying property located in Ottawa County, Oklahoma, might otherwise incur under CERCLA Sections 106 or 107, 42 U.S.C. 9606, or 9607, arising from the sale of chat on the property in question. The settlement is entered into by the United States on behalf of the U.S. Environmental Protection Agency (EPA).

Chat is a gravel-like mine refuse or mine tailings that is generally contaminated with the hazardous substances lead, cadmium and zinc. Approximately 49 million cubic yards of chat, including the St. Joe Pile, pollute the Tar Creek Superfund Site (Site). The Site is located in an approximately 40-square-mile area in northern Ottawa County, Oklahoma. The Site was mined for lead and zinc ore from the late 1800's through the early 1970's, and chat is part of the waste material left behind by the mining and milling activity. EPA has determined that one of the best ways to address contaminated chat piles on the Site is to sell and remove the chat for use in a manner that will not present a threat to human health or to the environment. Sale and removal of the chat will reduce the costs of additional response actions for the Site. The purpose of this Settlement Agreement is to encourage the sale of the chat in the St. Joe Chat Pile, by resolving certain liabilities of those with interests in the chat or in the property containing the chat, thereby helping free the chat for sale.

Under the settlement, settlors (chat owners and property owners) agree to execute an agreement for the sale of the chat pile (if they own an interest in the chat), to provide access, and to refrain from activities that would inhibit sales. The settlement also includes settlors' agreement not to sue the United States regarding any direct or indirect claim for reimbursement from the EPA Hazardous Substance Superfund pursuant to Internal Revenue Code, 26 U.S.C. 9507, through CERCLA Sections 106(b)(2), 111, 112, and 113, any claim under CERCLA Sections 107 or 113, or under any citizen suit provision of CERCLA, 42 U.S.C. 9659, the Resource Conservation and Recovery Act, 42 U.S.C. 6972, the Clean Air Act, 42 U.S.C. 7604, the Clean Water Act, 33 U.S.C. 1365, or any other similar statues or other applicable environmental laws.

In return, subject to reservations and limitations, the United States covenants not to sue or take civil judicial or administrative action against the settlors pursuant to Sections 106 and 107 of CERCLA, 42 U.S.C. 9606, and 9607, or other applicable law, for liability of response actions and/or claims for natural resource damages arising from the sale of the chat.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before April 9, 2007.

ADDRESSES: The proposed settlement and additional background information relating to the settlement are available for public inspection at 1445 Ross Avenue, Dallas, Texas 75202-2733. A copy of the proposed settlement may be obtained from Kenneth Talton (6SF-TE), U.S. EPA Region 6, 1445 Ross Avenue, Dallas, Texas 75202-2733 at (214) 665-7475. Comments should reference the Tar Creek Superfund Site, Ottawa County, Oklahoma, EPA Docket Number 06-12-06 and should be addressed to Kenneth Talton at the address listed above.

FOR FURTHER INFORMATION CONTACT: James Costello (6RC-S), U.S. EPA Region 6, 1445 Ross Avenue, Dallas, Texas 75202-2733 at (214) 665-8045.

Dated: March 1, 2007.
Richard E. Greene,
Regional Administrator, Region 6.

[FR Doc. E7-4283 Filed 3-8-07; 8:45 am]

BILLING CODE 6560-50-P